DEPARTMENT OF TRANSPORTATION

Maritime Administration

[Docket No. DOT-MARAD-2017-0118]

Request for Comments on the Renewal of a Previously Approved Information Collection: Uniform Financial Reporting Requirements

AGENCY: Maritime Administration.

ACTION: Notice and request for comments.

SUMMARY: In compliance with the Paperwork Reduction Act of 1995, this notice announces that the Information Collection Request (ICR) abstracted below is being forwarded to the Office of Management and Budget (OMB) for review and comments. The Uniform Financial Reporting Requirements are used as a basis for preparing and filing semi-annual and annual financial statements with MARAD. A Federal Register Notice with a 60-day comment period soliciting comments on the following information collection was published on April 24, 2017.

DATES: Comments must be submitted on or before August 7, 2017.

ADDRESSES: Send comments regarding the burden estimate, including suggestions for reducing the burden, to the Office of Management and Budget, Attention: Desk Officer for the Office of the Secretary of Transportation, 725 17th Street NW., Washington, DC 20503. Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Daniel Ladd, Director, 202-366-1859, Office of Financial Approvals, Maritime Administration, U.S. Department of Transportation, 1200 New Jersey Avenue SE., Washington, DC 20590.

SUPPLEMENTARY INFORMATION:

Title: Uniform Financial Reporting Requirements.

OMB Control Number: 2133-0005.

Type of Request: Renewal of a Previously Approved Information Collection.

Abstract: The Uniform Financial Reporting Requirements are used as a basis for preparing and filing semi-annual and annual financial statements with the Maritime Administration. Regulations requiring financial reports to MARAD are authorized by Section 801, Merchant Marine Act, 1936, as amended (46 App. U.S.C. 1211). Financial reports are also required by regulation of purchasers of ships from MARAD on credit, companies chartering ships from MARAD, and of companies having Title XI guarantee obligations (46 CFR part 298).

Affected Public: Vessel owners acquiring ships from MARAD on credit, companies chartering ships from MARAD, and companies having Title XI guarantee obligations.

Estimated Number of Respondents: 50.

Estimated Number of Responses: 100.

Estimated Hours per Response: 9.5.

Annual Estimated Total Annual Burden Hours: 950.

Frequency of Response: Twice a year.

Authority: The Paperwork Reduction Act of 1995; 44 U.S.C. Chapter 35, as amended; and 49 CFR 1.93.

* * * * *

By Order of the Maritime Administrator.
Dated: June 29, 2017.
Gabriel Chavez,
Acting Secretary, Maritime Administration.

[FR Doc. 2017-14097 Filed 7-5-17; 8:45 am]

BILLING CODE 4910-81-P